DEPARTMENT OF JUSTICE

Office of Justice Programs

Agency Information Collection Activities: Proposed Collection; Comments Requested

ACTION: 30-day notice of information collection under review: New. HOPE II: Faith Based and Community Organization Program Evaluation Study.

The Department of Justice, Office of Justice Programs, National Institute of Justice has submitted the following information collection request to the Office of Management and Budget (OMB) for review and approval in accordance with review procedures of the Paperwork Reduction Act of 1995. The proposed information collection is published to obtain comments from the public and affected agencies. This proposed information collection was previously published in the Federal Register, Volume 71, Number 81, page 24870, on April 17, 2006, allowing for a 60-day comment period.

The purpose of this notice is to allow for an additional 30 days for public comment until August 2, 2006. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-7285.

Written comments and suggestions from the public and affected agencies concerning proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g. permitting electronic submission of responses.

Overview of this information collection:

(1) Type of Information Collection: New Collection.

(2) Title of the Form/Collection: HOPE II: Faith Based and Community Organization Program Evaluation Study.

(3) Agency form number, if any, and the applicable component of the department sponsoring the collection: OJP Form Number XXXXX. National Institute of Justice, Office of Justice Programs, Department of Justice.

(4) Affected public who will be asked or required to respond, as well as a brief abstract: Affected public includes faith based and community organization (FBCO) administrators or other persons responsible for providing services to victims of crime at organization that received HOPE II grants. The survey will collect information on how FBCOs utilized grant money. The survey will be administered at two periods: immediately following the grant period and one year after the end of the grant period to collect both short- and long-term outcomes. Baseline information was collected as part of the grant application process. Key questions are:

(1) How has the FBCOs' service delivery changed between baseline and follow-up periods?

(2) How have the FBCOs' organizational capabilities changed between baseline and follow-up periods?

(3) How have the FBCOs' priorities and practices changed between baseline and follow-up periods?

(4) What partnerships and cooperative agreements have been put in place to support the program?

(5) How do the changes observed in sub-grantees' results and practices differ from those observed in the FBCOs in a comparison group that did not receive grant money or technical assistance?

(6) Do outcomes differ across various program types and grantee characteristics?

The data will be used to advise the National Institute of Justice and the Office of Victims of Crime.

(5) An estimate of the total number of respondents and the amount of time estimated for an average respondent to respond: The estimated number of respondents is 100. The survey will take an average of 25 minutes to complete.

(6) An estimate of the total public burden (in hours) associated with this collection: An estimated 42 hours of public burden is associated with this collection.

If additional information is required, contact Robert B. Briggs, Department Clearance Officer, Information Management and Security Staff, Justice Management Division, Department of Justice, Patrick Henry Building, Suite 1600, 601 D Street, NW., Washington, DC 20530.

Dated: June 27, 2006.
Robert B. Briggs,
Department Clearance Officer, Department of Justice.

[FR Doc. 06-5940 Filed 6-30-06; 8:45 am]

BILLING CODE 4410-18-M